DEPARTMENT OF TRANSPORTATION

Federal Aviation Administration

14 CFR Part 39

[Docket No. FAA-2021-0127; Project Identifier MCAI-2020-00829-R; Amendment 39-21557; AD 2021-10-24]

RIN 2120-AA64

Airworthiness Directives; Leonardo S.p.a. (Type Certificate Previously Held by Agusta S.p.A.) Helicopters

AGENCY: Federal Aviation Administration (FAA), DOT.

ACTION: Final rule.

SUMMARY: The FAA is superseding Airworthiness Directive (AD) 2015-25-04 for Agusta S.p.A (now Leonardo S.p.a.) Model A109A and A109A II helicopters. AD 2015-25-04 required inspecting the slider assembly pitch control (slider) for play and replacing the slider if the play exceeds certain limits. This AD was prompted by further investigation that led to the determination that the play was caused by a manufacturing issue. This AD retains certain requirements of AD 2015-25-04, requires replacing certain part-numbered sliders as a terminating action for the inspections, and prohibits installing the affected part on any helicopter. The FAA is issuing this AD to address the unsafe condition on these products.

DATES: This AD is effective June 18, 2021.

ADDRESSES: For service information identified in this final rule, contact Leonardo S.p.a. Helicopters, Emanuele Bufano, Head of Airworthiness, Viale G.Agusta 520, 21017 C.Costa di Samarate (Va) Italy; telephone +39-0331-225074; fax +39-0331-229046; or at https://www.leonardocompany.com/en/home. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0127; or in person at Docket Operations between 9 a.m. and 5 p.m., Monday through Friday, except Federal holidays. The AD docket contains this final rule, the European Union Aviation Safety Agency (EASA) AD, any comments received, and other information. The address for Docket Operations is U.S. Department of Transportation, Docket Operations, M-30, West Building Ground Floor, Room W12-140, 1200 New Jersey Avenue SE, Washington, DC 20590.

FOR FURTHER INFORMATION CONTACT: Matthew Fuller, AD Program Manager, Operational Safety Branch, Airworthiness Products Section, General Aviation & Rotorcraft Unit, telephone (817) 222-5110; email matthew.fuller@faa.gov.

SUPPLEMENTARY INFORMATION:

Background

The FAA issued a notice of proposed rulemaking (NPRM) to amend 14 CFR part 39 to supersede AD 2015-25-04, Amendment 39-18342 (80 FR 76381, December 9, 2015), (AD 2015-25-04). AD 2015-25-04 applied to Agusta S.p.A (now Leonardo S.p.a.) Model A109A and A109A II helicopters. The NPRM published in the Federal Register on March 8, 2021 (86 FR 13232). In the NPRM, the FAA proposed to retain the initial and repetitive 25 hours time-in-service (TIS) inspections required by AD 2015-25-04 and depending on the inspection results, continue to require replacing the slider with an airworthy slider. Additionally, the NPRM proposed to require, within 800 hours TIS, removing slider part number (P/N) 109-0130-11-7 from service and replacing it with a modified slider P/N 109-0130-11-7 marked with an “R” after the serial number, which would provide a terminating action for the repetitive inspections. Finally, the NPRM proposed to prohibit installing certain sliders on any helicopter. The NPRM was prompted by EASA AD 2020-0142, dated June 25, 2020 (EASA AD 2020-0142), issued by EASA, which is the Technical Agent for the Member States of the European Union, to correct an unsafe condition for Leonardo S.p.a. Model A109A and A109A II helicopters with a certain part-numbered slider. EASA AD 2020-0142 supersedes EASA AD 2015-0097, dated June 1, 2015 (EASA AD 2015-0097). EASA AD 2015-0097 was issued after unusual play was detected on a certain part-numbered slider. EASA advised in EASA AD 2015-0097 that investigation revealed excessive wear of the slider broaching at the point of contact with the tail rotor shaft but that the cause of the excessive play had not been determined. EASA AD 2015-25-04 prompted the FAA to issue AD 2015-25-04. EASA now advises that further investigation results identified the reason for the excessive play was a manufacturing issue. Accordingly, EASA AD 2020-0142 retains the repetitive inspections for a certain part-numbered slider, requires replacing a certain part-numbered slider with a modified slider, and provides a terminating action for the repetitive inspections.

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters as proposed in the NPRM; however, the paragraphs have been restructured to meet current formatting requirements, and the responsible office for approving Alternative Methods of Compliance has been revised. These changes will neither increase the scope of the AD nor increase the economic burden on any operator.

Related Service Information

The FAA reviewed Leonardo Helicopters Alert Service Bulletin No. 109-149, Revision A, dated May 18, 2020, which specifies procedures for repetitively inspecting the slider for play. This service information also references procedures for replacing the affected slider with a modified slider.

Differences Between This AD and the EASA AD

The EASA AD requires replacing the affected part-numbered slider within 60 months, while this AD requires replacing the affected slider within 800 hours TIS.

Costs of Compliance

The FAA estimates that this AD affects 147 helicopters of U.S. Registry. The FAA estimates that operators may incur the following costs in order to comply with this AD. Labor costs are estimated at $85 per work-hour.

Inspecting the slider for play takes about 1 work-hour for an estimated cost of $85 per helicopter and $12,495 for the U.S. fleet per inspection cycle. Replacing a slider takes about 10 work-hours and parts cost about $4,068 for an estimated cost of $4,918 per helicopter and $722,946 for the U.S. fleet.

According to Leonardo Helicopters' service information, some of the costs of this AD may be covered under warranty, thereby reducing the cost impact on affected persons. The FAA does not control warranty coverage by Leonardo Helicopters. Accordingly, the FAA has included all costs in this cost estimate.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2015-25-04, Amendment 39-18342 (80 FR 76381, December 9, 2015); and

b. Adding the following new AD:

2021-10-24 Leonardo S.p.a (Type Certificate Previously Held by Agusta S.p.A.): Amendment 39-21557; Docket No. FAA-2021-0127; Project Identifier MCAI-2020-00829-R.

(a) Effective Date

This airworthiness directive (AD) is effective June 18, 2021.

(b) Affected ADs

This AD replaces AD 2015-25-04, Amendment 39-18342 (80 FR 76381, December 9, 2015).

(c) Applicability

This AD applies to Leonardo S.p.a. (Type Certificate previously held by Agusta S.p.A.) Model A109A and A109A II helicopters, certificated in any category, with a slider assembly pitch control (slider) part number (P/N) 109-0130-11-7 installed, except those sliders marked with an “R” after the serial number.

(d) Subject

Joint Aircraft Service Component (JASC) Code: 6720, Tail Rotor Control System.

(e) Unsafe Condition

This AD defines the unsafe condition as play on a slider. This condition could result in loss of tail rotor pitch control and consequently loss of helicopter control.

(f) Compliance

Comply with this AD within the compliance times specified, unless already done.

(g) Required Actions

(1) Within 25 hours time-in-service (TIS) after the effective date of this AD, and thereafter at intervals not to exceed 25 hours TIS, inspect the slider for play. If there is play greater than 2.3 millimeters (0.09 inch), before further flight, replace the slider with a slider P/N 109-0130-11-7 with suffix “R” marked after the serial number.

(2) Within 800 hours TIS after the effective date of this AD, if not previously required per paragraph (g)(1) of this AD, replace slider P/N 109-0130-11-7 with slider P/N 109-0130-11-7 with suffix “R” marked after the serial number.

(3) Installing slider P/N 109-0130-11-7 with suffix “R” marked after the serial number is a terminating action for the repetitive inspections required by paragraph (g)(1) of this AD.

(4) As of the effective date of this AD, do not install slider P/N 109-0130-11-7 on any helicopter unless the slider is marked with suffix “R” after the serial number.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Matthew Fuller, AD Program Manager, Operational Safety Branch, Airworthiness Products Section, General Aviation & Rotorcraft Unit, telephone (817) 222-5110; email matthew.fuller@faa.gov.

(2) Leonardo Helicopters Alert Service Bulletin No. 109-149, Revision A, dated May 18, 2020, which is not incorporated by reference, contains additional information about the subject of this AD. For service information identified in this AD, contact Leonardo S.p.a. Helicopters, Emanuele Bufano, Head of Airworthiness, Viale G.Agusta 520, 21017 C.Costa di Samarate (Va) Italy; telephone +39-0331-225074; fax +39-0331-229046; or at https://www.leonardocompany.com/en/home. You may view this referenced service information at the FAA, Office of the Regional Counsel, Southwest Region, 10101 Hillwood Pkwy., Room 6N-321, Fort Worth, TX 76177. For information on the availability of this material at the FAA, call (817) 222-5110.

(3) The subject of this AD is addressed in European Union Aviation Safety Agency (EASA) AD 2020-0142, dated June 25, 2020. You may view the EASA AD at https://www.regulations.gov in Docket No. FAA-2021-0127.

Issued on May 6, 2021.
Lance T. Gant,
Director, Compliance & Airworthiness Division, Aircraft Certification Service.

[FR Doc. 2021-10191 Filed 5-13-21; 8:45 am]

BILLING CODE 4910-13-P